DEPARTMENT OF THE INTERIOR

Fish and Wildlife Service

Patoka River National Wildlife Refuge, Pike and Gibson Counties, IN

AGENCY: Fish and Wildlife Service, Interior.

ACTION: Notice of availability: Draft comprehensive conservation plan and environmental assessment; request for comments.

SUMMARY: We, the U.S. Fish and Wildlife Service (Service), announce the availability of a draft comprehensive conservation plan (CCP) and draft environmental assessment (EA) for Patoka River National Wildlife Refuge (NWR) for public review and comment. In this draft CCP/EA, we describe how we propose to manage the refuge for the next 15 years.

DATES: To ensure consideration, we must receive your written comments by November 30, 2007. An open house style meeting will be held during the comment period to receive comments and provide information on the draft plan. Special mailings, newspaper articles, internet postings, and other media announcements will inform people of the meetings and opportunities for written comments.

ADDRESSES: Send your comments or requests for more information by any of the following methods. You may also drop off comments in person at Patoka River NWR.

• Agency Web site: View or download a copy of the document and comment at http://www.fws.gov/midwest/planning/PatokaRiver/.

• E-mail: r3planning@fws.gov. Include “Patoka River Draft CCP/EA” in the subject line of the message.

• Fax: 812-749-3059.

• Mail: Refuge Manager, Patoka River National Wildlife Refuge, 510½ West Morton St., Oakland City, IN 47660.

FOR FURTHER INFORMATION CONTACT: Bill McCoy, 812-749-3199.

SUPPLEMENTARY INFORMATION:

Introduction

With this notice, we continue the CCP process for Patoka River NWR, which was started with the notice of intent published in 68 FR 62472 (November 4, 2003). For more about the initial process and the history of this refuge, see that notice. Patoka River NWR, located in southwestern Indiana, includes wetlands and bottomland forest along the Patoka River that provide a variety of habitat for migrant and resident wildlife. The Refuge contains some of the best wood duck production habitat in the State and is used by endangered and threatened species, including the Bald Eagle. The Refuge also includes the Cane Ridge Unit, a 464-acre satellite 24 miles west of the main Refuge that contains nesting habitat for the endangered Interior Least Tern, and the 219-acre White River Bottoms Unit nine miles north of the Refuge.

The CCP Process

The National Wildlife Refuge System Administration Act of 1966, as amended by the National Wildlife Refuge System Improvement Act of 1997 (16 U.S.C. 668dd-668ee), requires us to develop a comprehensive conservation plan for each national wildlife refuge. The purpose in developing a CCP is to provide refuge managers with a 15-year strategy for achieving refuge purposes and contributing toward the mission of the National Wildlife Refuge System, consistent with sound principles of fish and wildlife management, conservation, legal mandates, and our policies. In addition to outlining broad management direction on conserving wildlife and their habitats, plans identify wildlife-dependent recreational opportunities available to the public, including opportunities for hunting, fishing, wildlife observation, wildlife photography, and environmental education and interpretation.

CCP Alternatives and Our Preferred Alternative

Priority Issues

During the public scoping process, we, other governmental partners, and the public identified several priority issues, which include: Habitat management; water quality within the Patoka River and its tributaries; demand for additional visitor services; land acquisition within the approved Refuge boundary; and declining fish productivity within oxbow lakes. To address these issues, we developed and evaluated the following alternatives during the planning process.

Alternative 1, Current Management

Under Alternative 1, Current Management, the amount of bottomland forest and managed wetlands would increase and the amount of farmland would decrease; work would continue on improving the water quality within the Patoka River and its tributaries with the long term goal of removal of the streams from the list of impaired waters; there would be some improvements for welcoming and orienting refuge visitors; hunting and fishing opportunities would continue at present levels; wildlife observation opportunities would increase with new or improved facilities at three locations; there would be increased capacity to provide environmental education materials; land acquisition would continue both solely and in conjunction with partners; and there would be no active restoration of oxbow lakes or stream channels.

Alternative 2, Passive Management and Reactive Visitor Services

Under Alternative 2, bottomland farmland would be allowed to naturally succeed to bottomland forest; work would continue on improving the water quality within the Patoka River and its tributaries with the long term goal of removal of the streams from the list of impaired waters; there would be some improvements for welcoming and orienting refuge visitors; hunting, fishing, and wildlife observation opportunities would continue at present levels but there would be no new facilities for wildlife observation; environmental education would remain at present levels; land acquisition would continue both solely and in conjunction with partners; and there would be no active restoration of oxbow lakes or stream channels.

Alternative 3 (Preferred Alternative)

Under Alternative 3, the amount of bottomland forest and managed wetlands would increase and the amount of farmland would decrease but some would be retained as stopover habitat for migratory waterbirds; work would continue on improving the water quality within the Patoka River and its tributaries with the long term goal of removal of the streams from the list of impaired waters; there would be some improvements for welcoming and orienting refuge visitors; hunting opportunities would continue at present levels but there would be additional facilities to enhance fishing opportunities; wildlife observation opportunities would increase with new or improved facilities at three locations with the possibility of additional improvements; there would be increased capacity to provide environmental education materials; land acquisition would continue both solely and in conjunction with partners; and information would be collected to help evaluate stream channel and oxbow lake restoration options.

Public Meeting

We will give the public an opportunity to provide comments at a public meeting. You may obtain the schedule from the addresses listed in this notice (see ADDRESSES). You may also submit comments anytime during the comment period.

Public Availability of Comments

Before including your address, phone number, e-mail address, or other personal identifying information in your comment, you should know that your entire comment—including your personal identifying information—may be made publicly available at any time. While you may ask us in your comment to withhold your personal identifying information from public review, we cannot guarantee that we will be able to do so.

Dated: June 4, 2007.
Charles M. Wooley,
Acting Regional Director, U.S. Fish and Wildlife Service, Fort Snelling, Minnesota.

Editorial Note: This document was received at the Office of the Federal Register on October 12, 2007.

[FR Doc. E7-20474 Filed 10-16-07; 8:45 am]

BILLING CODE 4310-55-P